DEPARTMENT OF THE INTERIOR

Bureau of Ocean Energy Management

Notice of Availability of the Proposed Notice of Sale for Outer Continental Shelf (OCS) Oil and Gas Lease Sale 229 in the Western Planning Area (WPA) in the Gulf of Mexico; Correction

AGENCY: Bureau of Ocean Energy Management (BOEM), Interior.

ACTION: Notice; correction.

SUMMARY: The Bureau of Ocean Energy Management published a notice that appeared for Public Inspection on July 23, 2012 and published in the Federal Register July 24, 2012. It contained a typographical mistake. This document corrects the error.

FOR FURTHER INFORMATION CONTACT: Donna Dixon, Leasing Division Chief, Donna.Dixon@boem.gov.

SUPPLEMENTARY INFORMATION: In FR Doc. 2012-No. 142, published July 24, 2012, at 77 FR 43355, there was a typographical error. The second sentence of the SUMMARY section is corrected to read: “This sale will be the first under the Proposed Final OCS Oil and Gas Leasing Program for 2012-2017.” All other portions of the Notice remain unchanged.

Dated: July 24, 2012.
Tommy P. Beaudreau,
Director, Bureau of Ocean Energy Management.

[FR Doc. 2012-18443 Filed 7-27-12; 8:45 am]

BILLING CODE 4310-MR-P